FEDERAL MARITIME COMMISSION

Notice of Agreements Filed

The Commission hereby gives notice of the filing of the following agreements under the Shipping Act of 1984. Interested parties may submit comments, relevant information, or documents regarding the agreements to the Secretary by email at Secretary@fmc.gov, or by mail, Federal Maritime Commission, Washington, DC 20573. Comments will be most helpful to the Commission if received within 12 days of the date this notice appears in the Federal Register. Copies of agreements are available through the Commission's website (www.fmc.gov) or by contacting the Office of Agreements at (202)-523-5793 or tradeanalysis@fmc.gov.

Agreement No.: 201290-001.

Agreement Name: Maersk/MSC/Zim USPNW Cooperative Working Agreement.

Parties: Maersk A/S; Mediterranean Shipping Company S.A.; and Zim Integrated Shipping Services Ltd.

Filing Party: Wayne Rohde; Cozen O'Connor.

Synopsis: The amendment changes the name of the Maersk entity that is party to the Agreement and updates the contact information for Maersk.

Proposed Effective Date: 2/25/2020.

Location: https://www2.fmc.gov/FMC.Agreements.Web/Public/AgreementHistory/21334.

Agreement No.: 011075-080.

Agreement Name: Central America Discussion Agreement.

Parties: Crowley Latin America Services, LLC; Dole Ocean Cargo Express, LLC; Great White Fleet Corp. and Great White Fleet Liner Services Ltd. (acting as a single party); King Ocean Services Limited; and Seaboard Marine, Ltd.

Filing Party: Wayne Rohde; Cozen O'Connor.

Synopsis: The amendment reinstates language in Article 5.01 that was inadvertently omitted from a previous amendment.

Proposed Effective Date: 4/10/2020.

Location: https://www2.fmc.gov/FMC.Agreements.Web/Public/AgreementHistory/1332.

Agreement No.: 201263-002.

Agreement Name: Maersk/MSC/Zim Cooperative Working Agreement.

Parties: Maersk A/S; Mediterranean Shipping Company S.A.; and Zim Integrated Shipping Services Ltd.

Filing Party: Wayne Rohde; Cozen O'Connor.

Synopsis: The amendment changes the name of the Maersk entity that is party to the Agreement and the updates the contact information for Maersk.

Proposed Effective Date: 2/25/2020.

Location: https://www2.fmc.gov/FMC.Agreements.Web/Public/AgreementHistory/14256.

Agreement No.: 201292-001.

Agreement Name: Puerto Nuevo Terminals LLC Cooperative Working Agreement.

Parties: Luis A. Ayala Colon Sucrs.; Inc.; Puerto Rico Terminals; and Puerto Nuevo Terminals.

Filing Party: Matthew Thomas; Blank Rome LLP.

Synopsis: The amendment clarifies and revises the Agreement to more clearly define and narrow certain authorities set forth therein, and to remove authorities that the parties have not utilized, and do not intend to utilize. The amendment also adds PNT as a party to the Agreement.

Proposed Effective Date: 4/12/2020.

Location: https://www2.fmc.gov/FMC.Agreements.Web/Public/AgreementHistory/21354.

Dated: March 2, 2020.
Rachel E. Dickon,
Secretary.

[FR Doc. 2020-04580 Filed 3-5-20; 8:45 am]

BILLING CODE 6731-AA-P